DEPARTMENT OF COMMERCE

International Trade Administration

A-588-833

Preliminary Results of Antidumping Duty Changed-Circumstances Review and Notice of Intent to Revoke Order in Part: Stainless Steel Bar from Japan

AGENCY: Import Administration, International Trade Administration, Department of Commerce.

SUMMARY: On October 16, 2006, the Department of Commerce (the Department) published a notice of initiation of changed-circumstances review of the antidumping duty order on stainless steel bar from Japan, as described below. See Initiation of Antidumping Duty Changed-Circumstances Review: Stainless Steel Bar from Japan, 71 FR 60691 (October 16, 2006) (Initiation Notice). In our Initiation Notice, we invited interested parties to comment on the request to exclude 21-2N modified valve/stem stainless steel round bar, as described below, from the scope of this order. The Department received no comments.

Absent any comments, the Department preliminarily concludes that producers accounting for substantially all of the production of the domestic like product to which this order pertains lack interest in the relief provided by this order with respect to 21-2N modified valve/stem stainless steel round bar. Therefore, the Department preliminarily concludes that it is appropriate to revoke this order, in part, with respect to unliquidated entries of 21-2N modified valve/stem stainless steel round bar, not subject to the final results of an administrative review, that have been entered for consumption on or after February 1, 2006, based on the fact that the petitioners and domestic interested parties have made an affirmative statement of no interest in the continuation of the order with respect to that merchandise.

EFFECTIVE DATE: November 8, 2006.

FOR FURTHER INFORMATION CONTACT: Dmitry Vladimirov or Minoo Hatten, AD/CVD Operations, Office 5, Import Administration, International Trade Administration, Department of Commerce, 14th Street and Constitution Avenue, NW, Washington, DC 20230; telephone: (202) 482-0665 or (202) 482-1690.

SUPPLEMENTARY INFORMATION:

Background

The Department published the antidumping duty order on stainless steel bar from Japan on February 21, 1995. See Notices of Antidumping Duty Orders: Stainless Steel Bar from Brazil, India, and Japan, 60 FR 9661 (February 21, 1995). On August 28, 2006, TRW Fuji Valve, Inc. (TRW), a U.S. importer, requested that the Department exclude a product to which it referred as 21-2N modified valve/stem stainless steel round bar from the scope of the order. See TRW's letter to the Secretary, dated August 28, 2006. TRW requested that the Department revoke the order in part retroactively to February 1, 2006, the beginning of the anniversary month of the order. On September 18, 2006, the petitioners and domestic interested parties¹ provided a letter attesting to their expressed lack of interest in having this merchandise continue to be subject to the antidumping duty order on stainless steel bar from Japan.

¹ The petitioners and domestic interested parties include Carpenter Technology Corp., Crucible Specialty Metals Division of Crucible Materials Corp., Electralloy Corp., North American Stainless, Universal Stainless and Alloy Products, Inc., and Valbruna Slater Stainless, Inc.

On October 16, 2006, the Department published a notice of initiation of changed- circumstances review of the antidumping duty order on stainless steel bar from Japan. See Initiation Notice. In the Initiation Notice, the Department indicated that interested parties could submit comments for consideration in the Department's preliminary results no later than 15 days after publication of the initiation of this review and submit responses to those comments no later than 7 days following the submission of comments. The Department received no comments from interested parties.

Scope of the Order

The scope of the order covers stainless steel bar (SSB). The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to this order is currently classifiable under subheadings 7222.10.0005, 7222.10.0050, 7222.20.0005, 7222.20.0045, 7222.20.0075, and 7222.30.0000 of the Harmonized Tariff Schedule of the United States (HTSUS). Although the HTSUS subheadings are provided for convenience and customs purposes, our written description of the scope of this order is dispositive.

Scope of Changed-Circumstances Review

The product subject to this changed-circumstances review meets the following description: certain valve/stem stainless steel round bar of 21-2N modified grade, having a diameter of 5.7 millimeters (with a tolerance of 0.025 millimeters), in length no greater than 15 meters, having a chemical composition consisting of a minimum of 0.50 percent and a maximum of 0.60 percent of carbon, a minimum of 7.50 percent and a maximum of 9.50 percent of manganese, a maximum of 0.25 percent of silicon, a maximum of 0.04 percent of phosphorus, a maximum of 0.03 percent of sulfur, a minimum of 20.0 percent and a maximum of 22.00 percent of chromium, a minimum of 2.00 percent and a maximum of 3.00 percent of nickel, a minimum of 0.20 percent and a maximum of 0.40 percent of nitrogen, a minimum of 0.85 percent of the combined content of carbon and nitrogen, and a balance minimum of iron, having a maximum core hardness of 385 HB and a maximum surface hardness of 425 HB, with a minimum hardness of 270 HB for annealed material. See TRW's letter to the Secretary, dated August 28, 2006.

Preliminary Results of Review and Intent to Revoke in Part the Antidumping Duty Order

Pursuant to section 751(d)(1) of the Tariff Act of 1930, as amended (the Act), the Department may revoke an antidumping or countervailing duty order, in whole or in part, based on a review under section 751(b) of the Act (i.e., a changed-circumstances review). Section 751(b)(1) of the Act requires a changed-circumstances review to be conducted upon receipt of a request which shows changed circumstances sufficient to warrant a review. Section 782(h)(2) of the Act gives the Department the authority to revoke if producers accounting for substantially all of the production of the domestic like product have expressed a lack of interest in the continuation of relief. Section 351.222(g) of the Department's regulations provides that the Department will conduct a changed-circumstances review and may revoke an order (in whole or in part), if it concludes that (i) producers accounting for substantially all of the production of the domestic like product to which the order pertains have expressed a lack of interest in the relief provided by the order, in whole or in part, or (ii) other changed circumstances sufficient to warrant revocation exist.

As stated in the Initiation Notice, the petitioners and domestic interested parties attested to their lack of interest in having the merchandise to which TRW refers as 21-2N modified valve/stem stainless steel round bar, as fully described above in the “Scope of the Changed- Circumstances Review” section, continue to be subject to the antidumping duty order on SSB from Japan. The Department received no comments during the comment period opposing the partial revocation of the order with respect to 21-2N modified valve/stem stainless steel round bar. Therefore, the Department preliminarily concludes that producers accounting for substantially all of the production of the domestic like product to which this order pertains lack interest in the relief provided by this order with respect to 21-2N modified valve/stem stainless steel round bar.

If these results become final, the Department will revoke the order, in part, for all unliquidated entries of the product in question not covered by the final results of an administrative review. The most recent period for which the Department has completed an administrative review or ordered automatic liquidation under 19 CFR 351.212(c) is February 1, 2005, through January 31, 2006. Any prior entries are subject either to final results of review or automatic liquidation. Therefore, we will instruct U.S. Customs and Border Protection (CBP) to liquidate, without regard to antidumping duties, shipments of 21-2N modified valve/stem stainless steel round bar from Japan entered, or withdrawn from warehouse, for consumption on or after February 1, 2006. The Department will also instruct CBP to end suspension of liquidation for the product in question and to release any cash deposits or bonds pursuant to 19 CFR 351.222(g)(4). Moreover, the Department will instruct CBP to pay interest on such refunds in accordance with section 778 of the Act.

Public Comment

Interested parties wishing to comment on these preliminary results may submit briefs to the Department no later than 15 days after the publication of this notice in the Federal Register. Parties will have 7 days subsequent to this due date to submit rebuttal comments, limited to the issues raised in those briefs. Parties who submit briefs or rebuttal comments in this proceeding are requested to submit with each argument (1) a statement of the issue and (2) a brief summary of the argument (no longer than five pages, including footnotes). Any requests for hearing must be filed within 30 days of the publication of this notice in the Federal Register.

All written comments must be submitted in accordance with 19 CFR 351.303. Any comments must also be served on all interested parties on the service list for this proceeding, which is available on our Web site (http://ia.ita.doc.gov/apo/index.html). We will issue our final results in this changed-circumstances review as soon as practicable following the above comment period but not later than 270 days after the date on which we initiated the changed-circumstances review, in accordance with 19 CFR 351.216(e), and we will publish the results in the Federal Register. While the changed-circumstances review is underway, the current requirement for a cash deposit of estimated antidumping duties on all subject merchandise, including the merchandise that is the subject of this changed—circumstances review, will continue unless and until this order is revoked, in part, pursuant to the final results of this changed-circumstances review or an administrative review.

This notice is published in accordance with sections 751(b)(1) and 777(i)(1) of the Act and 19 CFR 351.216 and 351.222.

Dated: November 2, 2006.
David M. Spooner,
Assistant Secretary for Import Administration.

[FR Doc. E6-18880 Filed 11-7-06; 8:45 am]

BILLING CODE 3510-DS-S